COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: April 2, 2023.

ADDRESSES: Committee for Purchase from People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Warehouse Services

Mandatory for: Naval Air War Center Air Division, Naval Air Systems Command, Granite City, IL

Designated Source of Supply: Professional Contract Services, Inc., Austin, TX

Contracting Activity: DEPT OF THE NAVY, NAVAL AIR WARFARE CENTER AIR DIV

Deletions

The following product(s) and service(s) are proposed for deletion from the Procurement List:

Product(s)

NSN(s)—Product Name(s):

7520-01-058-9976—Pen, Ballpoint, Stick, Hexagonal Barrel, Green, Medium Point

7510-00-161-6211—Cup, Supply, Self-Stacking, Clear

Designated Source of Supply: Alphapointe, Kansas City, MO

Contracting Activity: GSA/FAS ADMIN SVCS ACQUISITION BR (2, NEW YORK, NY

NSN(s)—Product Name(s): 4820-00-052-4651—Valve, Ball, Piping

Designated Source of Supply: The Opportunity Center Easter Seal Facility—The Ala ES Soc, Inc., Anniston, AL

Contracting Activity: DLA LAND AND MARITIME, COLUMBUS, OH

NSN(s)—Product Name(s): 8340-00-262-2397—Cover, Tent

Designated Source of Supply: APEX, Inc., Anadarko, OK

Contracting Activity: DLA TROOP SUPPORT, PHILADELPHIA, PA

NSN(s)—Product Name(s): 6645-01-467-8479—Clock, Wall, Black Custom Logo, 22″ Diameter

Designated Source of Supply: Chicago Lighthouse Industries, Chicago, IL

Contracting Activity: GSA/FAS ADMIN SVCS ACQUISITION BR (2, NEW YORK, NY

NSN(s)—Product Name(s): 7520-01-455-7233—Pen, Ballpoint, Stick Type, Recycled, Green Ink, Medium Point

Designated Source of Supply: West Texas Lighthouse for the Blind, San Angelo, TX

Contracting Activity: GSA/FAS ADMIN SVCS ACQUISITION BR (2, NEW YORK, NY

NSN(s)—Product Name(s): 7520-01-451-9180—Pen, Ballpoint, Retractable, Essential LVX, Red, Medium Point

7520-01-451-9181—Pen, Ballpoint, Retractable, Essential LVX, Blue, Medium Point

Designated Source of Supply: Industries for the Blind and Visually Impaired, Inc., West Allis, WI

Contracting Activity: GSA/FAS ADMIN SVCS ACQUISITION BR (2, NEW YORK, NY

NSN(s)—Product Name(s): 7520-01-492-8463—Pen, Retractable, Neon, LVX Ink Gripper, Black, Fine point

7520-01-492-8464—Pen, Retractable, Neon, LVX Ink Gripper, Black, Medium point

Designated Source of Supply: MidWest Enterprises for the Blind, Inc., Kalamazoo, MI

Contracting Activity: GSA/FAS ADMIN SVCS ACQUISITION BR (2, NEW YORK, NY

NSN(s)—Product Name(s): 2540-00-737-3311—Cushion, Seat Back

Designated Source of Supply: APEX, Inc., Anadarko, OK

Contracting Activity: DLA LAND AND MARITIME, COLUMBUS, OH

Service(s)

Service Type: Parts Machining Service

Mandatory for: Arizona Industries for the Blind, 515 N 51st Ave. #130, Phoenix, AZ

Designated Source of Supply: Arizona Industries for the Blind, Phoenix, AZ

Contracting Activity: DEFENSE LOGISTICS AGENCY, DLA TROP SUPPORT C&E HARDWARE

Service Type: Parts Machining Service

Mandatory for: The Lighthouse for the Blind, Inc., 2601 South Plum, Seattle, WA

Designated Source of Supply: The Lighthouse for the Blind, Inc. (Seattle Lighthouse), Seattle, WA

Contracting Activity: DEFENSE LOGISTICS AGENCY, DLA TROP SUPPORT C&E HARDWARE

Service Type: Parts Machining Service

Mandatory for: WISCRAFT, Inc., 5316 West State Street, Milwaukee, WI

Designated Source of Supply: Wiscraft, Inc., Milwaukee, WI

Contracting Activity: DEFENSE LOGISTICS AGENCY, DLA TROP SUPPORT C&E HARDWARE

Service Type: Parts Machining

Mandatory for: DLA Wide (Off-Site—515 N 51st Ave. #130, Phoenix, AZ)

Designated Source of Supply: Arizona Industries for the Blind, Phoenix, AZ

Contracting Activity: DEFENSE LOGISTICS AGENCY, DLA TROOP SUPPORT CE HARDWARE

Service Type: Parts Machining

Mandatory for: DLA Wide (Off-Site—2601 South Plum St., Seattle, WA)

Designated Source of Supply: The Lighthouse for the Blind, Inc. (Seattle Lighthouse), Seattle, WA

Contracting Activity: DEFENSE LOGISTICS AGENCY, DLA TROOP SUPPORT CE HARDWARE

Service Type: Parts Machining

Mandatory for: DLA Wide (Off-Site—5316 West State St., Milwaukee, WI)

Designated Source of Supply: Wiscraft, Inc., Milwaukee, WI

Contracting Activity: DEFENSE LOGISTICS AGENCY, DLA TROOP SUPPORT CE HARDWARE

Service Type: Sourcing, Warehousing, Assembly and Kitting

Mandatory for: Montana Army National Guard, 1956 MT Majo Street, Fort Harrison, MT

Designated Source of Supply: Industries for the Blind and Visually Impaired, Inc., West Allis, WI

Contracting Activity: DEPT OF THE ARMY, W7NK USPFO ACTIVITY MT ARNG

Service Type: Janitorial/Custodial

Mandatory for: North Dakota Maintenance Office & Bismarck Warehouse, Bismarck ND

Designated Source of Supply: Pride, Inc., Bismarck, ND

Contracting Activity: ENERGY, DEPARTMENT OF, WESTERN-UPPER GREAT PLAINS REGION

Service Type: Janitorial/Custodial

Mandatory for: North Dakota Maintenance Office, 707 North Bismarck Expressway, Bismarck, ND

Designated Source of Supply: Pride, Inc., Bismarck, ND

Contracting Activity: ENERGY, DEPARTMENT OF, WESTERN-UPPER GREAT PLAINS REGION

Service Type: Janitorial/Custodial

Mandatory for: Bureau of Land Management, Farmington District Office, 6251 College Boulevard, Farmington, NM

Designated Source of Supply: Presbyterian Medical Services, Santa Fe, NM

Contracting Activity: BUREAU OF LAND MANAGEMENT, NM—NEW MEXICO STATE OFFICE

Michael R. Jurkowski,
Acting Director, Business Operations.

[FR Doc. 2023-04403 Filed 3-2-23; 8:45 am]

BILLING CODE 6353-01-P